DEPARTMENT OF HOMELAND SECURITY

Federal Emergency Management Agency

[Docket ID FEMA-2017-0002; Internal Agency Docket No. FEMA-B-1703]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before June 13, 2017.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1703, to Rick Sacbibit, Chief, Engineering Services Branch, Federal Insurance and Mitigation Administration, FEMA, 400 C Street SW., Washington, DC 20472, (202) 646-7659, or (email) patrick.sacbibit@fema.dhs.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: February 16, 2017.
Roy E. Wright,
Deputy Associate Administrator for Insurance and Mitigation, Department of Homeland Security, Federal Emergency Management Agency.

I. Watershed-based studies:

Community | Community map repository address
Lower Boise Watershed
Maps Available for Inspection Online at: http://www.fema.gov/preliminaryfloodhazarddata
Ada County, Idaho and Incorporated Areas
City of Boise | City Hall, 150 North Capitol Boulevard, Boise, ID 83702.
City of Eagle | City Hall, 660 East Civic Lane, Eagle, ID 83616.
City of Garden City | City Hall, 6015 North Glenwood Street, Garden City, ID 83714.
City of Meridian | Public Works Department, 33 East Broadway Avenue, Suite 200, Meridian, ID 83642.
City of Star | City Hall, 10769 West State Street, Star, ID 83669.
Unincorporated Areas of Ada County | Ada County Courthouse, 200 West Front Street, Boise, ID 83702.
Canyon County, Idaho and Incorporated Areas
City of Caldwell | City Hall, 621 Cleveland Boulevard, 2nd Floor, Caldwell, ID 83605.
City of Middleton | City Hall, 6 North Dewey Avenue, Middleton, ID 83644.
City of Notus | City Hall, 375 Notus Road, Notus, ID 83656.
City of Parma | City Hall, 305 North 3rd Street, Parma, ID 83660.
Unincorporated Areas of Canyon County | Canyon County Courthouse, 1115 Albany Street, Caldwell, ID 83605.
Lower Columbia Watershed
Maps Available for Inspection Online at: http://www.fema.gov/preliminaryfloodhazarddata
Clackamas County, Oregon and Incorporated Areas
City of Sandy | City Hall, 39250 Pioneer Boulevard, Sandy, OR 97055.
Unincorporated Areas of Clackamas County | Clackamas County Public Services, 2051 Kaen Road, Oregon City, OR 97045.
Multnomah County, Oregon and Incorporated Areas
City of Fairview | Planning Department, 1300 Northeast Village Street, Fairview, OR 97024.
City of Gresham | City Hall, Community Development Office, 1333 Northwest Eastman Parkway, Gresham, OR 97030.
City of Troutdale | City Hall, 219 East Historic Columbia River Highway, Troutdale, OR 97060.
City of Wood Village | City Hall, 2055 Northeast 238th Drive, Wood Village, OR 97060.
Unincorporated Areas of Multnomah County | Multnomah County Office of Land Use and Planning, 1600 Southeast 190th Avenue, Portland, OR 97233.

II. Non-watershed-based studies:

Community | Community map repository address
Richland County, Ohio and Incorporated Areas
Maps Available for Inspection Online at: http://www.fema.gov/preliminaryfloodhazarddata
Project: 16-05-0350S Preliminary Date: September 30, 2016
City of Shelby | Building and Zoning Department, 43 West Main Street, Shelby, OH 44875.
Unincorporated Areas of Richland County | Richland County Building Department, 1495 West Longview Avenue, Suite 202 A, Mansfield, OH 44906.
Clatsop County, Oregon and Incorporated Areas
Maps Available for Inspection Online at: http://www.fema.gov/preliminaryfloodhazarddata
Project: 16-10-0559S Preliminary Date: May 16, 2016
City of Cannon Beach | City Hall, Community Development, 163 East Gower Street, Cannon Beach, OR 97110.
City of Gearhart | City Hall, 698 Pacific Way, Gearhart, OR 97138.
City of Seaside | Community Development, 1387 Avenue U, Seaside, OR 97138.
City of Warrenton | City Hall, 225 South Main, Warrenton, OR 97146.
Unincorporated Areas of Clatsop County | Clatsop County Community Development, 800 Exchange Street, Suite 100, Astoria, OR 97103.

[FR Doc. 2017-05152 Filed 3-14-17; 8:45 am]

BILLING CODE 9110-12-P